COMMISSION ON OCEAN POLICY

Public Meeting

AGENCY: U.S. Commission on Ocean Policy.

ACTION: Notice.

SUMMARY: The U.S. Commission on Ocean Policy will hold its sixth regional meeting, the Commission's eighth public meeting, to hear and discuss coastal and ocean issues of concern to the Northwest region of the United States.

DATES: Public meetings will be held Thursday, June 13, 2002 from 12:30 p.m. to 6 p.m. and Friday, May 14, 2002 from 8:30 a.m. to 6 p.m.

ADDRESSES: The meeting location is the Commission Chambers, Port of Seattle, Pier 69, 2711 Alaskan Way, Seattle, WA 98121.

FOR FURTHER INFORMATION CONTACT: Terry Schaff, U.S. Commission on Ocean Policy, 1120 20th Street, NW., Washington, DC, 20036, 202-418-3442, schaff@oceancommission.gov.

SUPPLEMENTARY INFORMATION: This meeting is being held pursuant to requirements under the Oceans Act of 2000 (Public Law 106-256, Section 3(e)(1)(E)). The agenda will include presentations by invited speakers representing local and regional government agencies and non-governmental organizations, comments from the public and any required administrative discussions and executive sessions. Invited speakers and members of the public are requested to submit their statements for the record electronically by June 5, 2002 to the meeting Point of Contact. A public comment period is scheduled for Friday, June 14. The meeting agenda, including the specific time for the public comment period, and guidelines for making public comments will be posted on the Commission's website at http://www.oceancommission.gov prior to the meeting.

Dated: May 20, 2002.
James D. Watkins,
Chairman, U.S. Commission on Ocean Policy.

[FR Doc. 02-13199 Filed 5-24-02; 8:45 am]

BILLING CODE 6820-WM-P